DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Addiction Technology Transfer Centers (ATTC) Network Program Monitoring (OMB No. 0930-0216)—Extension

The Substance Abuse and Mental Health Administration's (SAMHSA) Center for Substance Abuse Treatment (CSAT) will continue to monitor program performance of its Addiction Technology Transfer Centers (ATTCs). The ATTCs disseminate current health services research from the National Institute on Drug Abuse, National Institute on Alcohol Abuse and Alcoholism, National Institute of Mental Health, Agency for Health Care Policy and Research, National Institute of Justice, and other sources, as well as other SAMHSA programs. To accomplish this, the ATTCs develop and update state-of-the-art, research-based curricula and professional development training.

CSAT monitors the performance of ATTC events. The ATTCs hold three types of events: Technical assistance events, meetings, and trainings. An ATTC technical assistance event is defined as a jointly planned consultation generally involving a series of contacts between the ATTC and an outside organization/institution during which the ATTC provides expertise and gives direction toward resolving a problem or improving conditions. An ATTC meeting is defined as an ATTC sponsored or co-sponsored event in which a group of people representing one or more agencies other than the ATTC work cooperatively on a project, problem, and/or policy. An ATTC training is defined as an ATTC-sponsored or co-sponsored event of at least three hours that focuses on the enhancement of knowledge and/or skills. Higher education classes are included in this definition, with each course considered as one training event.

CSAT currently uses seven (7) instruments to monitor the performance and improve the quality of ATTC events. Two (2) of these forms, the Meeting Follow-up Form and the Technical Assistance Follow-up Form, are currently approved by the Office of Management and Budget (OMB) through approval for CSAT Government Performance and Results Act (GPRA) Customer Satisfaction instruments (OMB No. 0930-0197). CSAT is not seeking any action related to these two forms at this time. They are merely referenced here to provide clarity and context to the description of the forms CSAT uses to monitor the performance of the ATTCs.

The remaining five (5) instruments for program monitoring and quality improvement of ATTC events are currently approved by the OMB (OMB No. 0930-0216) for use through April 30, 2013. These five forms are as follows: Event Description Form; Training Post Event Form; Training Follow-up Form; Meeting Post Event Form; and Technical Assistance Post Event Form. Sixty percent of the forms are administered in person to participants at educational and training events, who complete the forms by paper and pencil. Ten percent of the training courses are online, and thus, those forms are administered online. The remaining thirty percent is made up of 30-day follow-up forms that are distributed to consenting participants via electronic mail using an online survey tool. At this time, CSAT is requesting approval to extend the use of these five forms as is, with no revisions. A description of each of these forms follows.

(1) Event Description Form (EDF). The EDF collects descriptive information about each of the events of the ATTC Network. This instrument asks approximately 10 questions of ATTC faculty/staff relating to the event focus and format, as well as publications to be used during the event. It allows the ATTC Network and CSAT to track the number and types of events held. There are no revisions to the form. CSAT is proposing to continue to use the form as is.

(2) Training Post Event Form. This form is distributed to training participants at the end of the training activity, and collected from them before they leave. For training events which take place over an extended period of time, this form is completed after the final session of training. The form asks approximately 30 questions of each individual that participated in the training. Training participants are asked to report demographic information, education, profession, field of study, status of certification or licensure, workplace role, employment setting, satisfaction with the quality of the training and training materials, and to assess their level of skills in the topic area. There are no revisions to the form. CSAT is proposing to continue to use the form as is.

(3) Training Follow-up Form. The Training Follow-up form, which is administered 30-days after the event to 25% of consenting participants, asks about 25 questions. The form asks participants to report demographic information, satisfaction with the quality of the training and training materials, and to assess their level of skills in the topic area. No revisions are being made to the form. CSAT is proposing to continue to use the form as is.

(4) Meeting Post Event Form. This form is distributed to meeting participants at the end of the meeting, and collected from them before they leave. This form asks approximately 30 questions of each individual that participated in the meeting. Meeting participants are asked to report demographic information, education, profession, field of study, status of certification or licensure, workplace role, employment setting, and satisfaction with the quality of the event and event materials, and to assess their level of skills in the topic area. No revisions are being made to the form. CSAT is proposing to continue to use the form as is.

(5) Technical Assistance (TA) Post Event Form. This form is distributed to technical assistance participants at the end of the TA event. This form asks approximately 30 questions of each individual that participated in the TA event. TA participants are asked to report demographic information, education, profession, field of study, status of certification or licensure, workplace role, employment setting, and satisfaction with the quality of the event and event materials, and to assess their level of skills in the topic area. No revisions are being made to the form. CSAT is proposing to continue to use the form as is.

(6) The information collected on the ATTC forms will assist CSAT in documenting the numbers and types of participants in ATTC events, describing the extent to which participants report improvement in their clinical competency, and which method is most effective in disseminating knowledge to various audiences. This type of information is crucial to support CSAT in complying with GPRA reporting requirements and will inform future development of knowledge dissemination activities.

The chart below summarizes the annualized burden for this project.

Type of respondent | Number of respondents | Responses per respondent | Total responses | Hours per response | Total annual burden hours | Hourly wage cost | Total hour cost
ATTC Faculty/Staff:
Event Description Form | 250 | 1 | 250 | .25 | 62.50 | $20.64 | $1,290
Meeting and Technical Assistance Participants:
Post-Event Form | 5,000 | 1 | 5,000 | .12 | 600 | 20.64 | 12,384
Follow-up Form | Covered under CSAT Government Performance and Results Act (GPRA) Customer Satisfaction form (OMB # 0930-0197)
Training Participants:
Post-Event Form | 30,000 | 1 | 30,000 | .16 | 4,800 | 20.64 | 99,072
Follow-up Form | 7,500 | 1 | 7,500 | .16 | 1,200 | 20.64 | 24,768
Total | 42,750 |  | 42,750 |  | 6,662.50 |  | 137,514

Send comments to Summer King, SAMHSA Reports Clearance Officer, Room 15E57-B, 5600 Fishers Lane, Rockville, MD 20852 OR email a copy at summer.king@samhsa.hhs.gov. Written comments should be received by August 19, 2016.

Summer King,
Statistician.

[FR Doc. 2016-14511 Filed 6-17-16; 8:45 am]

BILLING CODE 4162-20-P